DEPARTMENT OF HOMELAND SECURITY

Federal Emergency Management Agency

44 CFR Part 67

[Docket ID FEMA-2010-000; Internal Agency Docket No. FEMA-B-1137]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before December 27, 2010.

ADDRESSES: The corresponding preliminary Flood Insurance Rate Map (FIRM) for the proposed BFEs for each community is available for inspection at the community's map repository. The respective addresses are listed in the table below.

You may submit comments, identified by Docket No. FEMA-B-1137, to Roy E. Wright, Deputy Director, Risk Analysis Division, Federal Insurance and Mitigation Administration, Federal Emergency Management Agency, 500 C Street, SW., Washington, DC 20472, (202) 646-3461, or (e-mail) roy.e.wright@dhs.gov.

FOR FURTHER INFORMATION CONTACT: Roy E. Wright, Deputy Director, Risk Analysis Division, Federal Insurance and Mitigation Administration, Federal Emergency Management Agency, 500 C Street, SW., Washington, DC 20472, (202) 646-3461, or (e-mail) roy.e.wright@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location ** | * Elevation in feet (NGVD) + Elevation in feet (NAVD) # Depth in feet above ground ‸ Elevation in meters (MSL): Existing | * Elevation in feet (NGVD) + Elevation in feet (NAVD) # Depth in feet above ground ‸ Elevation in meters (MSL): Modified
City of Poquoson, Virginia
Virginia | City of Poquoson | Chesapeake Bay | At the intersection of Hunt Wood Drive and Oscars Court | None | +7
| City of Poquoson | Chesapeake Bay/Cedar Creek | At the intersection of Villa Drive and Huntlandia Way | None | +7
|  |  | Approximately 400 feet north of the intersection of State Route 171 and City Hall Avenue | None | +7
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
City of Poquoson
Maps are available for inspection at the Building Official's Office, 500 City Hall Avenue, Poquoson, VA 23662.

Flooding source(s) | Location of referenced elevation | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Stearns County, Minnesota, and Incorporated Areas
Sauk Lake | Entire shoreline within Stearns County | None | +1232 | Unincorporated Areas of Stearns County.
Sauk River | Approximately 7,260 feet downstream of County Road 17 | None | +1226 | City of Sauk Centre, Unincorporated Areas of Stearns County.
| Approximately 1,450 feet downstream of Main Street | None | +1227 |
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
City of Sauk Centre
Maps are available for inspection at 320 Oak Street South, Sauk Centre, MN 56378.
Unincorporated Areas of Stearns County
Maps are available for inspection at the Stearns County Administration Center, 705 Courthouse Square, St. Cloud, MN 56303.
Barrett Pond | At the confluence with Clove Creek | +356 | +361 | Town of Philipstown.
| Approximately 2,741 feet upstream of Fishkill Road | None | +378 |
Clove Creek | Approximately 50 feet downstream of U.S. Route 9 | +258 | +259 | Town of Philipstown.
| Approximately 1.6 mile upstream of Briars Road | None | +517 |
Croton Falls Diverting Reservoir | Entire shoreline within the Town of Southeast | None | +310 | Town of Southeast.
Croton Falls Reservoir | Entire shoreline | None | +311 | Town of Carmel, Town of Southeast.
East Branch Croton River | At the confluence with the Croton Falls Diverting Reservoir | +311 | +310 | Town of Southeast, Village of Brewster.
Reach 1 | Approximately 777 feet upstream of State Route 22 | +418 | +359 |
Foundry Brook | Approximately 1,320 feet downstream of State Route 9D | +7 | +8 | Town of Philipstown, Village of Cold Spring, Village of Nelsonville.
| Approximately 852 feet upstream of Fishkill Road | None | +369 |
Holly Stream | Approximately 1,099 feet downstream of State Route 22 | +272 | +273 | Town of Southeast.
| Approximately 854 feet upstream of I-684 | None | +312 |
Lake Mahopac | Entire shoreline within the Town of Carmel | None | +660 | Town of Carmel.
Lost Lake | Entire shoreline | None | +466 | Town of Patterson.
Michael Brook | At the confluence with the Croton Falls Reservoir | +305 | +311 | Town of Carmel, Town of Kent.
| Approximately 0.9 mile upstream of Fair Street | None | +593 |
Middle Branch Croton River | At confluence with the Middle Branch Reservoir | +374 | +371 | Town of Carmel, Town of Kent, Town of Southeast.
| Approximately 101 feet upstream of Lakeshore Drive | +622 | +620 |
Middle Branch Reservoir | Entire shoreline within the Town of Southeast | None | +371 | Town of Southeast.
Muscoot River | At the county boundary | +512 | +509 | Town of Carmel.
| Approximately 1,009 feet upstream of Stillwater Road | +513 | +511 |
Oscawana Brook | At the county boundary | +116 | +115 | Town of Putnam Valley.
| Approximately 1,550 feet upstream of Oscawana Lake Road | None | +516 |
Putnam Lake | Entire shoreline | None | +494 | Town of Patterson.
Secor Brook | At the confluence with the Muscoot River | +513 | +511 | Town of Carmel.
| Approximately 1,396 feet upstream of Secor Road | None | +566 |
Shrub Oak Brook | Approximately 500 feet upstream of the confluence with Peekskill Hollow Creek | +218 | +219 | Town of Putnam Valley.
| At the county boundary | +391 | +393 |
Stephens Brook | Approximately 250 feet upstream of the confluence with East Branch Croton River Reach 2 | +432 | +433 | Town of Patterson.
| Approximately 31 feet upstream of Thunder Ridge Road | +475 | +473 |
Tonetta Brook | At the confluence with East Branch Croton River Reach 1 | +314 | +313 | Town of Southeast, Village of Brewster.
| Approximately 351 feet upstream of Pumphouse Road | +446 | +444 |
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
Town of Carmel
Maps are available for inspection at the Carmel Town Hall, 60 McAlpin Avenue, Mahopac, NY 10541.
Town of Kent
Maps are available for inspection at the Town of Kent Administration Office, 25 Sybils Crossing, Kent Lakes, NY 10512.
Town of Patterson
Maps are available for inspection at the Town Hall, 1142 Route 311, Patterson, NY 12563.
Town of Philipstown
Maps are available for inspection at the Philipstown Town Hall, 238 Main Street, Cold Spring, NY 10516.
Town of Putnam Valley
Maps are available for inspection at the Town Hall, 265 Oscawana Lake Road, Putnam Valley, NY 10579.
Town of Southeast
Maps are available for inspection at the Southeast Town Building Department, 1 Main Street, Brewster, NY 10509.
Village of Brewster
Maps are available for inspection at the Village Hall, Larry T. Jewell Municipal Building, 50 Main Street, Brewster, NY 10509.
Village of Cold Spring
Maps are available for inspection at the Village Hall, 85 Main Street, Cold Spring, NY 10516.
Village of Nelsonville
Maps are available for inspection at the Village Hall, 258 Main Street, Nelsonville, NY 10516.
East Branch Tunungwant Creek | Approximately 0.59 mile upstream of Browntown Road | None | +1532 | Borough of Lewis Run.
| Approximately 0.70 mile upstream of Browntown Road | None | +1535 |
Marvin Creek | Approximately 0.46 mile upstream of U.S. Route 6 (Marvin Street) | None | +1484 | Township of Keating.
| Approximately 0.59 mile upstream of U.S. Route 6 (Marvin Street) | None | +1485 |
Potato Creek | Approximately 0.62 mile downstream of Champlin Hill Road | None | +1448 | Township of Keating.
| Approximately 1,050 feet downstream of Champlin Hill Road | None | +1448 |
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
Borough of Lewis Run
Maps are available for inspection at the Borough Hall, 60 Main Street, Lewis Run, PA 16738.
Township of Keating
Maps are available for inspection at the Keating Township Building, 7160 State Route 46, Smethport, PA 16749.

(Catalog of Federal Domestic Assistance No. 97.022, “Flood Insurance.”)

Dated: September 13, 2010.
Sandra K. Knight,
Deputy Federal Insurance and Mitigation Administrator, Mitigation, Department of Homeland Security, Federal Emergency Management Agency.

[FR Doc. 2010-24144 Filed 9-24-10; 8:45 am]

BILLING CODE 9110-12-P